DEPARTMENT OF COMMERCE

International Trade Administration

[A-570-977, C-570-978]

High Pressure Steel Cylinders From the People's Republic of China: Continuation of Antidumping Duty and Countervailing Duty Orders

AGENCY: Enforcement and Compliance, International Trade Administration, Department of Commerce.

SUMMARY: As a result of the determination by the Department of Commerce (the Department) and the International Trade Commission (ITC) that revocation of the antidumping duty (AD) and countervailing duty (CVD) orders on high pressure steel cylinders (Steel Cylinders) from the People's Republic of China (PRC) would likely lead to a continuation or recurrence of dumping and countervailable subsidies and material injury to an industry in the United States, the Department is publishing a notice of continuation of the AD and CVD orders.

DATES: Applicable December 5, 2017.

FOR FURTHER INFORMATION CONTACT: Mark Kennedy, AD/CVD Operations, Office I, or Paul Walker, AD/CVD Operations, Office V, Enforcement and Compliance, International Trade Administration, U.S. Department of Commerce, 1401 Constitution Avenue NW., Washington, DC 20230; telephone: (202) 482-7883 and (202) 482-0413, respectively.

SUPPLEMENTARY INFORMATION:

Background

On June 21, 2012, the Department published in the Federal Register the AD and CVD orders on Steel Cylinders from the PRC.¹ On May 1, 2017, the Department published the notice of initiation of the first sunset reviews of the AD and CVD orders on Steel Cylinders ² from the PRC pursuant to section 751(c) of the Tariff Act of 1930, as amended (the Act). On May 1, 2017, the ITC instituted its review of the orders.³

¹ See High Pressure Steel Cylinders from the People's Republic of China: Antidumping Duty Order, 77 FR 37377 (June 21, 2012) (AD Order); see also High Pressure Steel Cylinders from the People's Republic of China: Countervailing Duty Order, 77 FR 37384 (June 21, 2012) (CVD Order).

² See Initiation of Five-Year “Sunset” Review, 82 FR 20314 (May 1, 2017).

³ See High Pressure Steel Cylinders from China, 82 FR 20373 (May 1, 2017).

As a result of these expedited sunset reviews, the Department determined that revocation of the AD order on Steel Cylinders from the PRC would likely lead to continuation or recurrence of dumping, and that revocation of the CVD order on Steel Cylinders from the PRC would likely lead to continuation or recurrence of of countervailable subsidies. The Department, therefore, notified the ITC of the magnitude of the dumping margins and countervailable subsidy rates likely to prevail should the AD and CVD orders be revoked.⁴

⁴ See High Pressure Steel Cylinders from the People's Republic of China: Final Results of the Expedited First Sunset Review of the Antidumping Duty Order, 82 FR 41607 (September 1, 2017); see also High Pressure Steel Cylinders from the People's Republic of China: Final Results of Expedited Sunset Review of the Countervailing Duty Order, 82 FR 41936 (September 5, 2017).

On November 3, 2017, pursuant to sections 751(c) and 752(a) of the Act, the ITC published a notice of its determination that revocation of the AD and CVD orders on Steel Cylinders would likely lead to continuation or recurrence of material injury to an industry in the United States within a reasonably foreseeable time.⁵

⁵ See High Pressure Steel Cylinders from China, 82 FR 51290 (November 3, 2017) and ITC Publication titled Steel Cylinders from the PRC: Investigation No. 701-480 (First Review) (October 31, 2017).

Scope of the Orders

The merchandise covered by these orders is seamless steel cylinders designed for storage or transport of compressed or liquefied gas (high pressure steel cylinders). High pressure steel cylinders are fabricated of chrome alloy steel including, but not limited to, chromium-molybdenum steel or chromium magnesium steel, and have permanently impressed into the steel, either before or after importation, the symbol of a U.S. Department of Transportation, Pipeline and Hazardous Materials Safety Administration (DOT)-approved high pressure steel cylinder manufacturer, as well as an approved DOT type marking of DOT 3A, 3AX, 3AA, 3AAX, 3B, 3E, 3HT, 3T, or DOT-E (followed by a specific exemption number) in accordance with the requirements of sections 178.36 through 178.68 of Title 49 of the Code of Federal Regulations, or any subsequent amendments thereof. High pressure steel cylinders covered by these investigations have a water capacity up to 450 liters, and a gas capacity ranging from 8 to 702 cubic feet, regardless of corresponding service pressure levels and regardless of physical dimensions, finish or coatings.

Excluded from the scope of these orders are high pressure steel cylinders manufactured to UN-ISO-9809-1 and 2 specifications and permanently impressed with ISO or UN symbols. Also excluded from the investigation are acetylene cylinders, with or without internal porous mass, and permanently impressed with 8A or 8AL in accordance with DOT regulations.

Merchandise covered by these orders is classified in the Harmonized Tariff Schedule of the United States (HTSUS) under subheading 7311.00.00.30. Subject merchandise may also enter under HTSUS subheadings 7311.00.00.60 or 7311.00.00.90. Although the HTSUS subheadings are provided for convenience and customs purposes, the written description of the merchandise under the investigation is dispositive.

Continuation of the Orders

As a result of the determinations by the Department and the ITC that revocation of the AD and CVD orders would likely lead to continuation or recurrence of dumping and countervailable subsidies and material injury to an industry in the United States, pursuant to section 751(d)(2) of the Act and 19 CFR 351.218(a), the Department hereby orders the continuation of the AD and CVD orders on Steel Cylinders from the PRC.

U.S. Customs and Border Protection will continue to collect AD and CVD cash deposits at the rates in effect at the time of entry for all imports of subject merchandise. The effective date of continuation of these orders will be the date of publication in the Federal Register of this notice of continuation. Pursuant to section 751(c)(2) of the Act, the Department intends to initiate the next five-year review of these orders not later than 30 days prior to the fifth anniversary of the effective date of continuation.

These five-year sunset reviews and this notice are in accordance with section 751(c) of the Act and published pursuant to section 777(i)(1) of the Act, and 19 CFR 351.218(f)(4).

Dated: November 29, 2017.
Gary Taverman,
Deputy Assistant Secretary for Antidumping and Countervailing Duty Operations, performing the non-exclusive functions and duties of the Assistant Secretary for Enforcement and Compliance.

[FR Doc. 2017-26164 Filed 12-4-17; 8:45 am]

BILLING CODE 3510-DS-P